DEPARTMENT OF COMMERCE

International Trade Administration

[A-489-807]

Notice of Initiation of New Shipper Antidumping Duty Review: Certain Steel Concrete Reinforcing Bars from Turkey

AGENCY: Import Administration, International Trade Administration, Department of Commerce.

SUMMARY: The Department of Commerce (the Department) has received a request to conduct a new shipper review of the antidumping duty order on certain steel concrete reinforcing bars (rebar) from Turkey published on April 17, 1997 (62 FR 18748). In accordance with section 751(a)(2)(B) of the Tariff Act of 1930, as amended (the Act), and 19 CFR 351.214(d), we are initiating an antidumping new shipper review of Kroman Celik Sanayii A.S., a producer of subject merchandise, and its affiliated export trading company, Yucelboru Ihracat Ithalat ve Pazarlama A.S. (collectively “Kroman”).

EFFECTIVE DATE: May 26, 2006.

FOR FURTHER INFORMATION CONTACT: Irina Itkin or Alice Gibbons, AD/CVD Operations, Office 2, Import Administration, International Trade Administration, U.S. Department of Commerce, 14th Street and Constitution Avenue, NW., Washington, DC, 20230; telephone (202) 482-0656 or (202) 482-0498, respectively.

SUPPLEMENTARY INFORMATION: The Department received a timely request from Kroman, in accordance with 19 CFR 351.214(c), for a new shipper review of the antidumping duty order on rebar from Turkey. See Antidumping Duty Order: Certain Steel Concrete Reinforcing Bars from Turkey, 62 FR 18748 (April 17, 1997).

Pursuant to 19 CFR 351.214(b), Kroman certified that it is both the exporter and producer of the subject merchandise, that it did not export subject merchandise to the United States during the period of the investigation (POI) (January 1, 1995, through December 31, 1995), and that it was not affiliated with any exporter or producer that exported the subject merchandise to the United States during the POI. Kroman also submitted documentation establishing the date on which its shipment of subject merchandise first entered for consumption, the volume shipped, and the date of its first sale to an unaffiliated customer in the United States.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this proceeding is dispositive.

Initiation of Review

In accordance with section 751(a)(2)(B) of the Act and 19 CFR 351.214(d), we are initiating a new shipper review of the antidumping duty order on rebar from Turkey produced and exported by Kroman. See the Memorandum from the Team to the File through Irene Darzenta Tzafolias, Acting Office Director, entitled “Initiation of AD New Shipper Review: Certain Steel Concrete Reinforcing Bars from Turkey,” dated May 22, 2006. Normally, we would issue the preliminary results of this review not later than 180 days after the date on which the review is initiated. However, on May 15, 2006, Kroman agreed to waive the time limits in order that the Department, pursuant to 19 CFR 351.214(j)(3), may conduct this review concurrently with the ninth administrative review of this order for the period April 1, 2005, through March 31, 2006, which will be conducted pursuant to section 751(a)(1) of the Act. Therefore, we intend to issue the final results of this review not later than 245 days after the last day of the anniversary month.

Pursuant to 19 CFR 351.214(g)(1)(i)(A), the period of review (POR) for a new shipper review, initiated in the month immediately following the anniversary month, will be the 12-month period immediately preceding the anniversary month. Therefore, the POR for the new shipper review of Kroman is April 1, 2005, through March 31, 2006.

We will instruct U.S. Customs and Border Protection to suspend liquidation of any unliquidated entries of the subject merchandise from Kroman and allow, at the option of the importer, the posting, until completion of the review, of a bond or security in lieu of a cash deposit for each entry of the merchandise exported by Kroman in accordance with 19 CFR 351.214(e). Because Kroman certified that it both produced and exported the subject merchandise, the sale of which is the basis for this new shipper review request, we will permit the bonding privilege only for those entries of subject merchandise for which Kroman is both the producer and the exporter.

Interested parties may submit applications for disclosure under administrative protective order in accordance with 19 CFR 351.305 and 351.306.

This initiation and notice are in accordance with section 751(a)(2)(B) of the Act and 19 CFR 351.214(d).

Dated: May 22, 2006.
Stephen J. Claeys,
Deputy Assistant Secretary for Import Administration.

[FR Doc. E6-8166 Filed 5-25-06; 8:45 am]

BILLING CODE 3510-DS-S